DEPARTMENT OF ENERGY

Federal Energy Regulatory Commission

[Docket No. CP15-539-000]

Columbia Gulf Transmission, LLC; Notice of Application

Take notice that on July 29, 2015, Columbia Gulf Transmission, LLC (Columbia Gulf), 5151 San Felipe, Suite 2500, Houston, Texas 77056, filed an application under section 7(c) of the Natural Gas Act and Part 157 of the Commission's regulations requesting authorization to construct, own and operate 51,800 horsepower at two greenfield compressor stations in Carter, Menifee and Montgomery Counties, Kentucky, to enable up to 621,000 Dekatherms per day (Rayne XPress Project) of firm transportation on its system, all as more fully described in the application.

The filing may also be viewed on the web at http://www.ferc.gov using the “eLibrary” link. Enter the docket number excluding the last three digits in the docket number field to access the document. For assistance, please contact FERC at FERCOnlineSupport@ferc.gov or toll free at (866) 208-3676, or TTY, (202) 502-8659.

Any questions regarding the proposed project should be directed to William A. Sala, Jr., Senior Counsel, Columbia Gulf Transmission, LLC, 5151 San Felipe, Suite 2500, Houston, Texas 77056; telephone: 713-386-3743.

On June 22, 2015 in Docket No. CP15-514-000, the Commission issued a Notice of Application (June 22 Notice) for Columbia Gulf's affiliate, Columbia Gas Transmission, LLC's (Columbia Gas) Leach XPress Project. The June 22 Notice stated that the Rayne Express Project may have some connection to Columbia Gas' Leach Xpress Project, and further, that “Until the details of the Rayne Xpress project are filed and more fully understood, the Commission cannot begin preparation of the Environmental Impact Statement (EIS) to comply with the NEPA of 1969.” Columbia Gulf's Rayne XPress application filing confirms the connection between the Leach XPress and Rayne XPress Projects and thus, we can begin our analysis.

Within 90 days after the date of this Notice of Application for the Rayne Xpress project, the Commission staff will issue a Notice of Schedule for Environmental Review that will indicate the anticipated date for the Commission's staff issuance of the final EIS analyzing both the Leach XPress and Rayne XPress proposals. The issuance of a Notice of Schedule for Environmental Review will also serve to notify federal and state agencies of the timing for the completion of all necessary reviews, and the subsequent need to complete all federal authorizations within 90 days of the date of issuance of the Commission staff's final EIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

Comment Date: September 1, 2015.

Dated: August 11, 2015.
Kimberly D. Bose,
Secretary.

[FR Doc. 2015-20200 Filed 8-14-15; 8:45 am]

BILLING CODE 6717-01-P